DEPARTMENT OF COMMERCE

Technology Administration

Technology Administration Fellows Program

AGENCY: Technology Administration.

ACTION: Notice.

SUMMARY: The Technology Administration is seeking private sector organizations to sponsor individuals to participate in the Technology Administration Fellows Program. Sponsors will nominate individuals who, if accepted by the Technology Administration, will spend up to one year at the Technology Administration, conducting research studies involving public policy on technology matters.

DATE: Letters of interest will be accepted on a rolling basis.

ADDRESSES AND CONTACT INFORMATION: Applications should be submitted to, and for further information contact: Ms. Joyce Hasty, Office of the Under Secretary for Technology, U.S. Department of Commerce, 14th Street and Constitution Avenue, NW, Room 4823, Washington, D.C. 20230; telephone (202) 482-5804.

SUPPLEMENTARY INFORMATION:

Authority: This Program is authorized under 15 U.S.C. 272(c)(2).

Program Description/Objectives

Under the Technology Administration Fellows Program (Program), private sector organizations (Sponsors) nominate individuals to spend up to one year working at the Technology Administration (TA), within the Department of Commerce (Department). Initial agreements will be for six months, with the opportunity to extend that period for an additional six months. During their tenure at the Technology Administration, Fellows will be involved in a variety of activities, including conducting research studies involving public policy on technology matters and attending meetings involving the full range of issues in which the TA is involved. In pursuing these activities, Fellows may draw on information resources, both within and outside the Department, relevant to their areas of research, including working with private sector organizations and their members who possess special expertise, including the Sponsor. Fellows will be required to make quarterly presentations to Technology Administration senior management.

The goals of the Program are: support the TA's efforts to promote U.S. leadership in technology; support the Under Secretary for Technology's goals for TA; provide TA with different perspectives on technology policy issues; and provide experience to industrial representatives in the development of public policy on technology matters.

Eligibility

Sponsors must be organizations that do not have institutional conflicts of interest with the TA. For example, any organization applying for Advanced Technology Program funding this year may not sponsor Fellows. Eligible Sponsors may nominate Fellows. Nominated Fellows should be individuals within the Sponsor's upper level management up to the vice president level.

Eligibility Criteria

Sponsors will be evaluated based on the compatibility of their interests with that of the TA.

Funding

Under the Program, the Sponsor or Fellow pays for the Fellow's salary; relocation costs; living expenses; medical insurance and all other personnel benefits, including Social Security; and the Fellow's personal travel and related expenditures. The Technology Administration provides the Fellow with office facilities; secretarial and other staff support, as appropriate; and travel approved by the Technology Administration.

Application

Applicant Sponsors should submit a letter of interest. Letters of interest should be submitted to: Ms. Joyce Hasty, Office of the Under Secretary for Technology, U.S. Department of Commerce, 14th Street and Constitution Avenue, NW, Room 4823, Washington, D.C. 20230.

Other Requirements

While participating in the Technology Administration Fellows Program, Fellows must understand and promote the position of the Department and TA on matters of public policy as set by the Secretary of Commerce and the Under Secretary for Technology, when representing TA. Fellows may not engage in any outside activity, including business activity, that is incompatible with the policies and interests of the Department.

Fellows must adhere to the Department's security and clearance requirements, including: security clearances specified in Department Administrative Order 207-3, “Security Requirements for Research Associates, Guest Workers, and Trainees;” and Department regulations on Employee Responsibilities and Conduct, 15 CFR Part 0.

Fellows may not; obligate the expenditure of Federal funds; supervise Federal employees; speak for the Department in a public setting; nor use the name of the Technology Administration or the Department on any product or service without prior approval of the Technology Administration.

Dated: January 27, 2000.
Cheryl L. Shavers,
Under Secretary of Commerce for Technology.

[FR Doc. 00-2295 Filed 2-2-00; 8:45am]

BILLING CODE 3510-GN-M